DEPARTMENT OF TRANSPORTATION

Office of the Secretary of Transportation

[DOT Docket No. DOT-OST-2010-0074]

Future of Aviation Advisory Committee (FAAC)

AGENCY: U.S. Department of Transportation, Office of the Secretary of Transportation.

ACTION: The Future of Aviation Advisory Committee (FAAC); Notice of Federal Advisory Committee Meeting.

SUMMARY: The Department of Transportation, Office of the Secretary of Transportation, announces the second meeting of the FAAC which will be held in the Atlanta area. This notice announces the date, time and location of the meeting, which will be open to the public. The purpose of FAAC is to provide advice and recommendations to the Secretary of Transportation to ensure the competitiveness of the U.S. aviation industry and its capability to manage effectively the evolving transportation needs, challenges, and opportunities of the global economy.

DATES: The meeting will be held on July 14, 2010, from 9 a.m. to 3:30 p.m.

ADDRESSES: The meeting will be held at the offices of the Federal Aviation Administration's Southern Region Headquarters Building, 1701 Columbia Ave., College Park, GA 30337, in the Wright Brothers Auditorium.

Agenda: Time will be apportioned to each of the five Subcommittees to present their findings to the Committee. The public will also be afforded time to comment on the subcommittee report-outs. Persons wishing to express more detailed comments are encouraged to do so in written form (see instructions in the Public Comments section.) The Committee and the public will also have an opportunity to discuss the new proposed rulemaking titled “Enhancing Airline Passenger Protections” (docket DOT-OST-2010-0140.)

Public Access: The meeting is open to the public. (See below for registration instructions.) Entering the FAA Building:

• A valid form of government issued ID with an expiration date is required.

• Registration is from 7:30 to 8:45 a.m.

• Only pre-registered attendees may attend the meeting.

• Attendees must be screened and pass through a metal detector.

• No firearms are allowed in the building.

• Special accessibility requirements should be noted at time of email registration.

• There is no publicly available Internet access at this site.

• A cafeteria is available on-site for lunch (cash only).

• There is limited parking available at the site. Those wishing to utilize the FAA parking facility should note that fact in the registration request. Visitors using FAA parking should use the building entrance at 1712 Princeton Ave., College Park, GA 30337.

• Those using public transportation may use the Columbia Avenue entrance which is 2 blocks East of the College Park Station on the Red and Gold Lines of MARTA (Metropolitan Atlanta Rapid Transit Authority). See http://www.itsmarta.com for more information on trip planning.

Public Comments: The public will be afforded an opportunity for brief comments at the meeting. Comments should address one or more of the five topics (competition, environment, finance, safety and workforce/labor) that were published in the Federal Advisory Committee Charter at http://www.regulations.gov (Docket DOT-OST-2010-0074). You may also file written comments identified by the docket number DOT-OST-2010-0074 by any of the following methods:

• Federal eRulemaking Portal: go to http://www.regulations.gov and follow the online instructions for submitting comments.

• Mail: Docket Management Facility, U.S. Department of Transportation, 1200 New Jersey Ave., SE., Room W12-140, Washington, DC 20590-0001.

• Hand Delivery or Courier: West Building Ground Floor, Room W12-140, 1200 New Jersey Ave., SE., between 9 a.m. and 5 p.m. ET, Monday through Friday, except Federal holidays.

In addition to sending your comments through the dockets using any of the methods above, you may also forward a copy of your comments and questions to FAAC@dot.gov and include one of the following in the subject line when making your email submission; “Financing”, “Safety”, “Environment”, “Workforce”, “Competition”, and/or “General comment”.

In order for the committee to read and consider your views for the July 14 meeting, comments must be received by 5 p.m. EDT Monday, July 12. All public comments will be posted in Docket DOT-OST-2010-0074, which is accessible from http://www.Regulations.gov. Please note that even after the closing date, we will continue to review public comments for future meetings.

SUPPLEMENTARY INFORMATION:

Background

To carry out its duties, the advisory committee met on May 25, 2010 in Washington, DC. At that meeting it was determined that issues would be identified and explored further in subcommittees. The Advisory Committee will meet on the following dates this year:

• July 14

• August 25

• October 20

• December 15

Members of the public may review the FAAC charter and minutes of FAAC meetings at http://www.regulations.gov in docket number DOT-OST-2010-0074 or the FAAC Web site at http://www.dot.gov/faac.

Registration

• Space is limited. Registration will be available on a first-come, first-serve basis. Once the maximum number of 300 registrants has been reached, registration will close. All requests to attend the FAAC must be received by close of business on Monday, July 12.

• All foreign nationals must provide their date of birth and passport number by Wednesday, June 30.

• Persons with disabilities who require special assistance should advise the Department at FAAC@dot.gov, under the subject line of “Special Assistance” of their anticipated special needs as early as possible.

• To register: Send an e-mail to FAAC@dot.gov under the subject line “Registration” with the following information:

○ Last name, First name

○ Title (if any)

○ Company or affiliation (if any)

○ Address

○ Phone number

○ US Citizen (Y/N)

○ Requesting use of the FAA parking facility or using Public Transportation

○ Email address in order for us to confirm your registration

• The Federal Aviation Administration building is a secure Federal facility.

• An e-mail will be sent to you confirming your registration along with details on security procedures for entering the Federal Aviation Administration building.

FOR FURTHER INFORMATION CONTACT: Pamela Hamilton-Powell, Designated Federal Officer, Future of Aviation Advisory Committee, 202-267-9677, or FAAC@dot.gov.

Issued on: June 21, 2010.
Ray LaHood,
Secretary of Transportation.

[FR Doc. 2010-15582 Filed 6-25-10; 8:45 am]

BILLING CODE 4910-9X-P